DEPARTMENT OF THE INTERIOR

Office of Surface Mining Reclamation and Enforcement

[S1D1S SS08011000 SX064A000 190S180110; S2D2S SS08011000 SX064A000 19XS501520]

Grant Notification for Fiscal Year 2019

AGENCY: Office of Surface Mining Reclamation and Enforcement, Interior.

ACTION: Notice.

SUMMARY: We, the Office of Surface Mining Reclamation and Enforcement, are notifying the public that we intend to grant funds to eligible applicants for purposes authorized under the Title IV Abandoned Mine Land Reclamation Program and the Title V Regulatory Program under the Surface Mining Control and Reclamation Act of 1977. We will award these grants during fiscal year 2019.

DATES: A single point of contact or other interested state or local entities may submit written comments regarding AML and Regulatory funding until April 5, 2019.

ADDRESSES: You may submit comments by any of the following methods:

• Electronic mail: Send your comments to yrichardson@osmre.gov.

• Mail, hand-delivery, or courier: Send your comments to Office of Surface Mining Reclamation and Enforcement, Attn: Administrative Record, Room 4558, 1849 C Street NW, Washington, DC 20240.

FOR FURTHER INFORMATION CONTACT: Yetunde Richardson, Office of Surface Mining Reclamation and Enforcement, 1849 C Street NW, MS 4551, Washington, DC 20240; Telephone (202) 208-2766.

SUPPLEMENTARY INFORMATION:

Grant Notification

We, the Office of Surface Mining Reclamation and Enforcement (OSMRE), are notifying the public that we intend to grant funds to eligible applicants for purposes authorized under the Title IV Abandoned Mine Land (AML) Reclamation Program and the Title V Regulatory Program under the Surface Mining Control and Reclamation Act of 1977 (SMCRA). We are notifying the public that we intend to grant funds to eligible applicants for purposes authorized under the AML Reclamation Program. Additionally, we are notifying the public that we intend to grant funds to eligible applicants for regulating coal mining within their jurisdictional borders under the Regulatory Program. We will award these grants during fiscal year 2019. Eligible applicants are those states and Indian Tribes with a reclamation plan, regulatory program, and/or regulatory development program approved under SMCRA, as amended, 30 U.S.C. 1201 et seq., and the State of Tennessee. Under Executive Order (E.O.) 12372, we must provide state officials the opportunity to review and comment on proposed federal financial assistance activities. Of the eligible applicants, nineteen states or Indian tribes do not have single points-of-contact under the E.O.12372 review process; therefore, we are required to publish this notice as an alternate means of notification.

Description of the AML Program

SMCRA established the Abandoned Mine Reclamation Fund to receive the AML fees used to finance reclamation of AML coal mine sites. Title IV of SMCRA authorizes the Office of Surface Mining Reclamation and Enforcement to provide grants to eligible states and Indian tribes that are funded from permanent (mandatory) appropriations. Recipients use these funds to reclaim the highest priority AML coal mine sites that were left abandoned prior to the enactment of SMCRA in 1977, eligible non-coal sites, projects that address the impacts of mineral development, and non-reclamation projects.

Description of the Regulatory Program

Title V of SMCRA authorizes the Office of Surface Mining Reclamation and Enforcement to provide grants to states and Indian tribes to develop, administer, and enforce state regulatory programs addressing the disturbance from coal mining operations. Additionally, Title V authorizes states to develop regulatory programs pursuant to SMCRA, and upon approval of regulatory programs, to assume regulatory primacy and act as the regulatory authority, and to administer and enforce their respective approved SMCRA regulatory programs. Our regulations at Title 30 of the Code of Federal Regulations, Chapter V implement the provisions of SMCRA.

Dated: February 11, 2019.
Glenda H. Owens,
Deputy Director, Exercising the Authority of the Director, Office of Surface Mining Reclamation and Enforcement.

[FR Doc. 2019-03963 Filed 3-5-19; 8:45 am]

BILLING CODE 4310-05-P